ENVIRONMENTAL PROTECTION AGENCY

[ER-FRL-8589-1]

Environmental Impacts Statements; Notice of Availability

Responsible Agency: Office of Federal Activities, General Information (202) 564-1399 or http://www.epa.gov/compliance/nepa/.

Weekly receipt of Environmental Impact Statements

Filed 12/22/2008 Through 12/26/2008

Pursuant to 40 CFR 1506.9.

EIS No. 20080535, Draft EIS, BLM, MT, Indian Creek Mine Expansion, Proposed Mine Expansion would include Quarry Areas, Mine Facilities, Ore Storage Sites, Soil Salvage Stockpiles, Haul Roads, and Overburden Disposal Areas, Issuing Operating Permit #00105 and Plan of Operation #MTM78300, Broadwater County, MT, Comment Period Ends: 03/02/2009, Contact: David Williams 406-533-7655.

EIS No. 20080536, Final EIS, COE, CA, Berth 97-109 (China Shipping) Container Terminal Project, Construction and Operation, Issuance of section 404 (CWA) and Section 10 Rivers and Harbor Act Permits, Port of Los Angeles, Los Angeles County, CA, Wait Period Ends: 02/02/2009, Contact: Dr. Spencer D. MacNeil 805-585-2152.

EIS No. 20080537, Draft EIS, BLM, NV, Ely Energy Center, Construction and Operation 1500 MW Coal-Fired Power Plant and Associated Features, White Pine, Lincoln, Clark, Nye, Elko and Nevada Counties, NV, Comment Period Ends: 04/03/2009, Contact: Joe Incardine 801-524-3833.

EIS No. 20080538, Second Draft Supplement, NRC, VA, North Anna Power Station Unit 3, Combined License (COL) application for Construction and Operation a Based-Load Nuclear Power Plant, (NUREG-1917), in the Town of Mineral, Louisa County, VA, Comment Period Ends: 03/16/2009, Contact: Alicia Williamson 301-415-1878.

EIS No. 20080539, Draft EIS, USA, 00, Gulf of Mexico Range Complex (GOMEX), Proposed Action is to Support and Conduct Current and Emerging Training and RDT&E Operations, TX, MS, AL and FL, Comment Period Ends: 02/17/2009, Contact: Karen M. Foskey 703-602-2859.

EIS No. 20080540, Draft EIS, AFS, ID, Nez Perce National Forest (NPNF), Proposed Designated Routes and Areas for Motor Vehicle Use (DRMVU), Implementation, Idaho County, ID, Comment Period Ends: 02/25/2009, Contact: Alexandra Botello 208-983-1950.

EIS No. 20080541, Final EIS, UPS, CA, Aliso Viejo Incoming Mail Facility, Proposed Construction and Operation of a Mail Processing Facility on a 25-Acre Parcel, Aliso Viejo, Orange County, CA, Wait Period Ends: 02/02/2009, Contact: Emmy Andrews 650-615-7200.

EIS No. 20080542, Draft EIS, AFS, NV, Martin Basin Rangeland Project, Reauthorizing Grazing on Eight Existing Cattle and Horse Allotments: Bradshaw, Buffalo, Buttermilk, Granite Peak, Indian, Martin Basin, Rebel Creek, and West Side Flat Creek, Santa Rosa Ranger District, Humboldt-Toiyabe National Forest, NV, Comment Period Ends: 02/17/2009, Contact: Vern Keller 775-355-5356.

Amended Notices

EIS No. 20080523, Draft EIS, BLM, 00, UNEV Pipeline Project, Construction of a 399-mile Long Main Petroleum Products Pipeline, Salt Lake, Tooele, Juab, Millard, Iron, and Washington Counties, UT, and Lincoln and Clark Counties, NV, Comment Period Ends: 03/19/2009, Contact: Joe Incardine 801-524-3833. Revision to FR Notice Published 12/19/2008: Correction to Title and Comment Period.

Dated: December 29, 2008.
Robert W. Hargrove,
Director, NEPA Compliance Division, Office of Federal Activities.

[FR Doc. E8-31218 Filed 12-31-08; 8:45 am]

BILLING CODE 6560-50-P